DEPARTMENT OF VETERANS AFFAIRS

Computer Matching Program Between the Department of Veterans Affairs (VA) and the Department of Defense (DoD)

AGENCY: Department of Veterans Affairs.

ACTION: Notice of computer matching program.

SUMMARY: Notice is hereby given that the Department of Veterans Affairs intends to conduct a recurring computer matching program. This will match personnel records of the Department of Defense with VA records of benefit recipients under the Montgomery GI Bill.

The goal of these matches is to identify the eligibility status of veterans, servicemembers, and reservists who have applied for or who are receiving education benefit payments under the Montgomery GI Bill. The purpose of the match is to enable VA to verify that individuals meet the conditions of military service and eligibility criteria for payment of benefits determined by VA under the Montgomery GI Bill—Active Duty (MGIB) and the Montgomery GI Bill—Selected Reserve (MGIB-SR).

DATES: This match will commence on or about July 17, 2006. At the expiration of 18 months after the commencing date the Departments may renew the agreement for another 12 months.

FOR FURTHER INFORMATION CONTACT: Michael Yunker (225B), Strategy and Legislative Development Team Leader, Education Service, Veterans Benefits Administration, Department of Veterans Affairs, 810 Vermont Avenue NW., Washington, DC 20420, (202) 273-7180.

SUPPLEMENTARY INFORMATION: Further information regarding the matching program is provided below. This information is required by paragraph 6c of the “Guidelines on the Conduct of Matching Programs” issued by the Office of Management and Budget (OMB) (54 FR 25818), as amended by OMB Circular A-130, 65 FR 77677 (2000). A copy of the notice has been provided to both Houses of Congress and OMB. The matching program is subject to their review.

a. Names of participating agencies: Department of Defense and Department of Veterans Affairs.

b. Purpose of the match: The purpose of the match is to enable VA to determine whether an applicant is eligible for payment of benefits under the MGIB or the MGIB-SR and to verify continued compliance with the requirements of both programs.

c. Authority: The authority to conduct this match is found in 38 U.S.C. 3684A(a)(1).

d. Categories of records and individuals covered: The records covered include eligibility records extracted from DOD personnel files and benefit records that VA establishes for all individuals who have applied for and/or are receiving, or have received education benefit payments under the Montgomery GI Bill. These benefit records are contained in a VA system of records identified as 58VA21/22 entitled: Compensation, Pension, Education and Rehabilitation Records—VA, first published in the Federal Register at 41 FR 9294 (March 3, 1976), and last amended at 66 FR 47727 (September 13, 2001), with other amendments as cited therein.

e. Inclusive dates of the matching program: The match will begin on July 17, 2006 or 40 days after the OMB review period, whichever is later and continue in effect for 18 months.

f. Address for receipt of public inquiries or comments: Interested individuals may submit written comments to the Director, Regulations Management (00REG1), Department of Veterans Affairs, 810 Vermont Avenue, NW., Room 1068, Washington, DC 20420; fax to (202) 273-9026; or e-mail to VAregulations@mail.va.gov. All comments received will be available for public inspection in the Office of Regulation Policy and Management, Room 1063B, between the hours of 8 a.m. and 4:30 p.m., Monday through Friday (except holidays). Please call (202) 273-9515 for an appointment.

Approved: May 17, 2006.
R. James Nicholson,
Secretary of Veterans Affairs.

[FR Doc. E6-9413 Filed 6-15-06; 8:45 am]

BILLING CODE 8320-01-P